ENVIRONMENTAL PROTECTION AGENCY

[FRL-7128-9]

Notice of the Eighth Meeting of the Mississippi River/Gulf of Mexico Watershed Nutrient Task Force

AGENCY: Environmental Protection Agency (EPA).

ACTION: Notice; announcement meeting.

SUMMARY: This notice announces the Eighth Meeting of the Mississippi River/Gulf of Mexico Watershed Nutrient Task Force. The purpose of this Task Force, consisting of federal, state, and tribal members, is to lead efforts to coordinate and support nutrient management and hypoxia-related activities in the Mississippi River and Gulf of Mexico watersheds. The major matter to be discussed at the meeting is the implementation of the Action Plan for Reducing, Mitigating, and Controlling Hypoxia in the Northern Gulf of Mexico. The Plan was developed in fulfillment of a requirement of section 604(b) of the Harmful Algal Blooms and Hypoxia Research Control Act (Pub. L. 105-383—Coast Guard Authorization Act of 1998) and was submitted as a Report to Congress on January 18, 2001. The public will be afforded an opportunity to provide input to the Task Force during open discussion periods. The meeting coincides with a meeting of the Ohio River Valley Water Sanitation Commission in the vicinity, and will afford opportunities for exchange between the participants of both meetings. The meeting room accommodates approximately 125 people.

DATES: The two-day meeting will be held from 2 p.m.-5:30 p.m., February 7, 2002 and from 8 a.m.-3:30 p.m., February 8, 2002.

ADDRESSES: The meeting will be held at the Radisson Hotel and Suites Downtown, 200 North Fourth Street, St. Louis, MO 63102. A block of rooms has been reserved at the hotel. For reservations, call (314) 621-8200 or 1-800-925-1395. When making room reservations, use the group name “EPA Mississippi River/Gulf of Mexico Meeting.” (Internet: http://www.radisson.com/stlouismo)

FOR FURTHER INFORMATION CONTACT: Dr. Mary Belefski, U.S. EPA, Assessment and Watershed Protection Division (AWPD), Mail Code 4503F, 1200 Pennsylvania Avenue, NW., Washington, DC 20460; Phone (202)-260-7061; E-mail: belefski.mary@epa.gov. For additional information on logistics and accommodations, contact Ansu John, Tetra Tech, Inc., 10306 Eaton Place, Suite 340, Fairfax, VA 22030; Phone: (703) 385-6000; E-mail: ansu.john@tetratech-ffx.com.

Dated: January 8, 2002.
Robert Wayland III,
Director, Office of Wetlands, Oceans, and Watersheds.

[FR Doc. 02-956 Filed 1-14-02; 8:45 am]

BILLING CODE 6560-50-P